Title 3—

The President

Proclamation 8753 of November 14, 2011

American Education Week, 2011

By the President of the United States of America

A Proclamation

Ensuring our future leaders and innovators receive a complete and competitive education is fundamental to our Nation’s economic prosperity and our role as a thriving democracy. During American Education Week, we acknowledge the central role education plays in our society and resolve to make rigorous and lasting investments in our education system so the American dream remains within reach of each of our children.

From small towns to our largest cities, schools serve as laboratories where students test new ideas and kindle new academic interests. In the classroom, young people cultivate scholarship, discover talents they never knew they had, and build the skills they need to pursue careers of their choosing. And with every step they take toward their future, our students are guided by men and women who work tirelessly to help them realize their full potential. Teachers, administrators, and other education professionals are unfaltering in their dedication to giving children the education they deserve, and it is essential we do our part to help them succeed. To secure a bright future for our students and our Nation, we must support educators by strengthening our schools, creating better opportunities for professional development, and recruiting top college graduates to be our next generation of devoted teachers.

The task of preparing our children for a lifetime of scholarship and achievement rests not only in the classroom, but also in our homes and neighborhoods. Parents, community leaders, and mentors play a vital role in cultivating a love of learning and instilling in our children the self-confidence, creativity, and discipline that serve as a foundation for success. Together, our families, schools, and communities carry a profound responsibility to do right by our children. This week and throughout the year, let us strive to fulfill that promise.

By working toward thoughtful education reform and making every classroom a place of high expectations and high performance, we can take steps to ensure our future generations are prepared to uphold our founding promise of opportunity, and to make great discoveries and develop groundbreaking ideas here in America. During American Education Week, we renew our promise to give our children the chance to achieve their dreams and to write the next proud chapter in the American story.

NOW, THEREFORE, I, BARACK OBAMA, President of the United States of America, by virtue of the authority vested in me by the Constitution and the laws of the United States, do hereby proclaim November 13 through November 19, 2011, as American Education Week. I call upon all Americans to observe this week by supporting their local schools through appropriate activities, events, and programs designed to help create opportunities for every school and student in America.

IN WITNESS WHEREOF, I have hereunto set my hand this fourteenth day of November, in the year of our Lord two thousand eleven, and of the Independence of the United States of America the two hundred and thirty-sixth.

[FR Doc. 2011-29938

Filed 11-16-11; 11:15 am]

Billing code 3295-F2-P